DEPARTMENT OF THE TREASURY

Office of Thrift Supervision

[AC-05: OTS Nos. H-4234 and 05639]

American Bancorp of New Jersey and American Bank of New Jersey, Bloomfield, New Jersey; Approval of Conversion Application

Notice is hereby given that on August 12, 2005, the Assistant Managing Director, Examinations and Supervision—Operations, Office of Thrift Supervision (“OTS”), or her designee, acting pursuant to delegated authority, approved the application of American Bank of New Jersey, Bloomfield, New Jersey, to convert to the stock form of organization. Copies of the application are available for inspection by appointment (phone number: 202-906-5922 or e-mail: Public.Info@OTS.Treas.gov) at the Public Reading Room, OTS, 1700 G Street, NW., Washington, DC 20552, and OTS Northeast Regional Office, Harborside Financial Center Plaza Five, Suite 1600, Jersey City, New Jersey 07311.

Dated: August 12, 2005.
By the Office of Thrift Supervision.
Nadine Y. Washington,
Corporate Secretary.

[FR Doc. 05-16343 Filed 8-17-05; 8:45 am]

BILLING CODE 6720-01-M